DEPARTMENT OF COMMERCE

National Oceanic and Atmospheric Administration

RIN 0648-XA664

New England Fishery Management Council; Public Meeting

AGENCY: National Marine Fisheries Service (NMFS), National Oceanic and Atmospheric Administration (NOAA), Commerce.

ACTION: Notice; public meeting.

SUMMARY: The New England Fishery Management Council (Council) is revising the agenda for a public meeting of its Scientific and Statistical Committee (SSC) on September 14, 2011 to consider actions affecting New England fisheries in the exclusive economic zone (EEZ). Recommendations from this group will be brought to the full Council for formal consideration and action, if appropriate.

DATES: This meeting will be held on Wednesday, September 14, 2011 at 9 a.m.

ADDRESSES: The meeting will be held at the Hilton Providence, 21 Atwells Avenue, Providence, RI 02903; telephone: (401) 831-3900; fax: (407) 751-0007.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The original meeting notice published on August 26, 2011 (76 FR 53415). The meeting was to be held on September 14 and 15, however, the meeting for September 15th is cancelled.

Wednesday, September 14, 2011

The Scientific and Statistical Committee will recommend ABCs for the Northeast Multispecies Fishery Management Plan for FY 2012-14. Additionally, the SSC will develop comments on terms of reference for upcoming assessments for Atlantic sea herring and Southern New England yellowtail flounder scheduled for the 54th Stock Assessment Workshop (SAW) in 2012.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: September 1, 2011.
Tracey L. Thompson,
Acting Director, Office of Sustainable Fisheries, National Marine Fisheries Service.

[FR Doc. 2011-22914 Filed 9-7-11; 8:45 am]

BILLING CODE 3510-22-P